DEPARTMENT OF LABOR

Employment and Training Administration

[TA-W-65,099]

McMurray Fabrics, Inc., Aberdeen, NC; Notice of Termination of Investigation

Pursuant to Section 221 of the Trade Act of 1974, as amended, an investigation was initiated on February 3, 2009 in response to a petition filed on behalf of workers of McMurray Fabrics, Inc., Aberdeen, North Carolina.

The petitioners have requested that the petition be withdrawn. Therefore, the investigation under this petition has been terminated.

Signed at Washington, DC, this 19th day of March 2009.
Linda G. Poole,
Certifying Officer, Division of Trade Adjustment Assistance.

[FR Doc. E9-7743 Filed 4-6-09; 8:45 am]

BILLING CODE 4510-FN-P